DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with March anniversary dates. In accordance with the Department's regulations, we are initiating those administrative reviews.

EFFECTIVE DATE: April 30, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with March anniversary dates.

Initiation of Reviews

In accordance with 19 CFR 351.221(c)(1)(i), we are initiating administrative reviews of the following antidumping and countervailing duty orders and findings. We intend to issue the final results of these reviews not later than March 31, 2002.

| Period to be reviewed
Antidumping Duty Proceedings
Canada: Iron Construction Castings, A-122-503 | 3/1/00-2/28/01
Canada Pipe Company, Ltd.
India: Certain Forged Stainless Steel Flanges, A-533-809 | 2/1/00-1/31/01
Snowdrop Trading Pvt. Ltd.*
Countervailing Duty Proceedings
Pakistan: Shop Towels, C-535-001 | 1/1/00-12/31/00
Aqil Textile Industries
Bita Textile Corporation
Fine Fabrics
Iftikhar Corporation
Ishaq Towel Factory
Jawad Brothers
Jawad Industries
Mehtabi Towel Mills (Pvt.) Ltd.
Pakistan Textile Corporation (Pvt) Ltd.
Quality Linen Supply Corporation
R.I. Weaving/ Ranjha Linen
Salimah International
Shaheen Textiles
Shahi Textiles
Silver Textile Factory
Sultex Industries
United Towel Exporters
Universal Linen
Nisar (Textiles) Corporation
Khaksar Impex (Pvt) Ltd.
Saasoh Textile Corporation
Faisalabad Cotton Product (Pvt) Ltd.
Shaheen International
Ranjha Linen
Suspension Agreements
None
* Inadvertently omitted from previous initiation notice.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: April 24, 2001.
Holly A. Kuga,
Acting Deputy Assistant Secretary, Group II for Import Administration.

[FR Doc. 01-10689 Filed 4-27-01; 8:45 am]

BILLING CODE 3510-DS-P